DEPARTMENT OF AGRICULTURE

Forest Service

Flathead County Resource Advisory Committee

AGENCY: Forest Service, USDA.

ACTION: Notice of meeting.

SUMMARY: The Flathead County Resource Advisory Committee will meet in Kalispell, Montana July 13th. The purpose of this meeting is to vote on 2004 RAC projects.

DATES: The meeting will be held from 4 p.m. to 6 p.m.

ADDRESSES: The meetings will be held at the Flathead County Commissioner's Office, Commissioner's Conference Room, 800 South Main, Kalispell, Montana, 59901.

FOR FURTHER INFORMATION CONTACT: Kaaren Arnoux, Flathead National Forest, Administrative Assistant, (406) 758-5251.

SUPPLEMENTARY INFORMATION: The meeting is open to the public.

Denise Germann,
Public Affairs Specialist.
Cathy Barbouletos,
Forest Supervisor.

[FR Doc. 04-13912 Filed 6-18-04; 8:45 am]

BILLING CODE 3410-11-M